DEPARTMENT OF AGRICULTURE

Forest Service

Information Collection; Secure Rural Schools Act

AGENCY: Forest Service, USDA.

ACTION: Notice; request for comment.

SUMMARY: In accordance with the Paperwork Reduction Act of 1995, the Forest Service is seeking comments from all interested individuals and organizations on the renewal with revisions of a currently approved information collection, Secure Rural Schools Act.

DATES: Comments must be received in writing on or before May 27, 2022 to be assured of consideration. Comments received after that date will be considered to the extent practicable.

ADDRESSES: Comments concerning this notice should be addressed to Juana Rosas, National Partnership Coordinator, National Partnership Office, USDA Forest Service, Yates Building, 1400 Independence Avenue, Mailstop #1158, Washington, DC 20250. Comments also may be submitted by email to: Secure Rural Schools at sm.fs.srsinbox@usda.gov.

Comments also may be submitted by email to sm.fs.srsinbox@usda.gov. Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at USDA Forest Service, Yates Building, 1400 Independence Avenue, Mailstop #1158, Washington, DC 20250 during normal business hours. Visitors are encouraged to call ahead to (202) 720-2791 to facilitate entry to the building. The public may request an electronic copy of the draft supporting statement and/or any comments received be sent via return email. Requests should be emailed to sm.fs.srsinbox@usda.gov.

FOR FURTHER INFORMATION CONTACT: Brianna Gallegos, USDA Forest Service, Yates Building, 1400 Independence Avenue, Mailstop #1158, Washington, DC 20250, sm.fs.srsinbox@usda.gov. Individuals who use telecommunication devices for the deaf (TDD) may call the Federal Relay Service (FRS) at 1-800-877-8339 twenty-four hours a day, every day of the year, including holidays. Individuals who use telecommunication devices for the deaf (TDD) may call the Federal Information Relay Service (FIRS) at 1-800-877-8339 twenty-four hours a day, every day of the year, including holidays.

SUPPLEMENTARY INFORMATION: Title: Secure Rural Schools Act.

OMB Number: 0596-0220.

Type of Request: Renewal with revisions of a currently approved information collection and New Title II Project Proposal Form.

Abstract: The Secure Rural Schools and Community Self-Determination Act of 2000 (the Act) (16 U.S.C. 7101 et seq.), as reauthorized in Public Law 117-58, requires the appropriate official of a county that receives funds under Title III of the Act to submit to the appropriate Secretary an annual certification that the funds expended have been used as authorized. The appropriate official of each participating county will be requested to report the amount of Title III funds expended in the applicable year in these categories as specified in the Act:

(1) To carry out authorized activities under the Firewise Communities Program;

(2) To reimburse the participating county for search and rescue and other emergency services, including firefighting and law enforcement patrols;

(3) To provide or expand access to broadband telecommunications services at local schools or the technology and connectivity necessary for students to use a digital learning tool at or outside of the local school campus;

(4) To cover training costs and equipment purchases directly related to the emergency service described in paragraph (2); and

(5) To develop and carry out community wildfire protection plans. The information collection will identify the participating county, the year in which the expenditures were made, the name, title, and signature of the certifying official, and the date of the certification. The certification will include a statement that all expenditures were for uses authorized under the Act and that the proposed uses were published and had a 60-day comment period and were submitted to the appropriate Secure Rural Schools Act resource advisory committee(s), if any, as described in Section 302(b) of the Act.

The information collection will request the county to certify the amount of Title III funds received since October of 2008 that has not been obligated as of September 30th of the previous year. This collection is necessary in the certification due on February 1 the following year after payments are received to determine the amount of Title III funds that must be returned to the United States Treasury under section 304(b) of the Act. Collection of this information is consistent with a recent audit of county uses of Title III funds by the Government Accountability Office (http://www.gao.gov/products/GAO-12-775). A county's procedure for and documentation of its obligation of Title III funds should be consistent with its procedures to obligate funds from other Federal sources.

The information collection will request the county to certify the amount of Title III funds received to determine the amount of Title III funds that must be returned to the United States Treasury under section 304(b) of the Act. The Department of the Interior and the Bureau of Land Management are also authorized to participate in this information collection because the Bureau of Land Management administers Federal lands in western Oregon covered by the Act. The information will be reviewed by the appropriate Secretary, or designee, to verify that participating counties have certified that funds were expended as authorized in the Act and to identify amounts not obligated. The information also may be used by the Department of the Interior because it is relevant to its Payments in Lieu of Taxes (PILT) program.

The information will be collected in the form of conventional correspondence such as a letter and, at the respondent's option, attached tables or similar graphic display. The Forest Service provides an optional form for the convenience of respondents. At the respondent's discretion, the information may be submitted by hard copy and/or electronically scanned and included as an attachment to electronic mail. This becomes record keeping for audit purposes.

The Secure Rural Schools and Community Self-Determination Act of 2000 (the Act) (16 U.S.C. 7101 et seq.), as reauthorized in Public Law 117-58, requests Resource Advisor Committees (RAC's) who receive funds under Title II of the Act to submit proposal to the appropriate RAC Forest Service Designated Federal Officer (DFOs) that the funds are being requested for that specific project. Counties typically receive 20% or less of Secure Rural Schools funds under Title II, which are used by willing Federal agencies, State and local governments, private and nonprofit entities, and landowners for protection, restoration and enhancement of fish and wildlife habitat, and other natural resource objectives on Federal land and on non-Federal land where projects would benefit these resources on Federal land.

Rather than being distributed to the State, Title II funds are retained by the Forest Service and are allocated to specific projects that have been reviewed and recommended by a local Resource Advisory Committee.

Projects are considered for Title II funding if they make additional investments in, and create employment opportunities through:

Improvement of existing infrastructure maintenance.

Implementation of stewardship objectives that enhance forest ecosystems;

Restoration and improvement of land health and water quality.

Projects must comply with all applicable Federal laws and regulations.

Projects must be consistent with the applicable resource management plan and with any watershed or subsequent plan developed pursuant to the resource management plan. The funds may be used for projects that have broad-based support and with objectives that include: Road, trail, and infrastructure maintenance or obliteration; soil productivity improvement; forest ecosystem health improvements; watershed restoration and maintenance; wildlife and fish habitat restoration, maintenance, and improvement; noxious and exotic weeds control; and native species re-establishment.

At least 50% of all project funds are to be used for projects that are primarily dedicated to road maintenance, decommissioning, or obliteration; or to restoration of streams and watersheds.

Affected Public: Eligible counties and Federal agencies, state and local government, private entities.

Estimate of Annual Burden per Respondent: 1.

Type of Respondents: Respondents are county officials. The determination of who is the appropriate certifying official is at the discretion of the county and borough and will vary depending on county or borough organization. For unorganized boroughs in Alaska and for participating counties in Vermont, a state official may provide the information. Respondents of 91 RACs are expected to respond each year.

Estimated Annual Number of Respondents: 344 county officials and 91 RACs.

Estimated Annual Number of Responses per Respondent: 1.

Estimated Total Annual Burden on Respondents: 1 hour.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Ellen Shaw,
Acting Director, National Partnership Office.

[FR Doc. 2022-06436 Filed 3-25-22; 8:45 am]

BILLING CODE 3411-15-P